DEPARTMENT OF THE INTERIOR

National Park Service

[NPS-WASO-NAGPRA-NPS0027841; PPWOCRADN0-PCU00RP14.R50000]

Notice of Inventory Completion: Tennessee Department of Environment and Conservation, Division of Archaeology, Nashville, TN

AGENCY: National Park Service, Interior.

ACTION: Notice.

SUMMARY: The Tennessee Department of Environment and Conservation, Division of Archaeology has completed an inventory of human remains and associated funerary objects in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to the Tennessee Department of Environment and Conservation, Division of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Tennessee Department of Environment and Conservation, Division of Archaeology at the address in this notice by July 5, 2019.

ADDRESSES: Michael C. Moore, Tennessee Department of Environment and Conservation, Division of Archaeology, 1216 Foster Avenue, Cole Building 3, Nashville, TN 37243, telephone (615) 687-4776, email mike.c.moore@tn.gov.

SUPPLEMENTARY INFORMATION: Notice is here given in accordance with the Native American Graves Protection and Repatriation Act (NAGPRA), 25 U.S.C. 3003, of the completion of an inventory of human remains and associated funerary objects under the control of the Tennessee Department of Environment and Conservation, Division of Archaeology, Nashville, TN. The human remains and associated funerary objects were removed from Rutherford County and Williamson County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Tennessee Department of Environment and Conservation, Division of Archaeology professional staff in consultation with representatives of the Cherokee Nation; Eastern Band of Cherokee Indians; The Chickasaw Nation; The Muscogee (Creek) Nation; The Osage Nation (previously listed as the Osage Tribe); and the United Keetoowah Band of Cherokee Indians in Oklahoma, hereafter referred to as “The Tribes.”

History and Description of the Remains

The Fernvale site (40WM51) was excavated by the Division of Archaeology in 1985 prior to bridge construction by the Tennessee Department of Transportation. This site is located on the west side of the South Harpeth River in northwest Williamson County, TN, near the community of Fernvale. The final report on the excavation (The Fernvale Site (40WM51): A Late Archaic Occupation Along the South Harpeth River in Williamson County, Tennessee, edited by A. Deter-Wolf, Tennessee Department of Environment and Conservation, Division of Archaeology Research Series No. 19) is available in pdf format on the Division web page, at https://www.tn.gov/content/dam/tn/environment/archaeology/documents/researchseries/arch_rs19_fernvale_Rev_2016.pdf.

Radiocarbon dates and recovered artifacts indicate Fernvale is primarily a Late Archaic period site dating 3490 to 3320 BP. All removed burials and associated burial objects are consistent with previously identified Native American burials and objects dating to the Late Archaic period. 33 individuals were removed from 27 pit features. Burial 2 comprised an adult female that had been interred with a mature dog. No known individuals were identified. A total of 61 associated funerary objects were recovered with these individuals. The 62 associated funerary objects are three bone pins, nine projectile points, two polished bone fragments, one ovate knife, one biface, one drill, one antler tine, 17 canid phalanges, four bone awls, seven fragmented mussel shells, two limestone hoes, four shell beads, two hammerstones, one grooved cobble, six fragmented animal bones, and the remains of one dog.

The Arnold site (40WM5) was established on a low ridge along the north bank of the Little Harpeth River about a mile southwest of the city of Brentwood in northern Williamson County, TN. This site, named after the famed singer Eddy Arnold, was excavated in 1965 and 1966 by the Southeastern Indian Antiquities Survey Inc. (SIAS) prior to construction of a residential subdivision.

The SIAS excavation is reported to have uncovered 151 stone-box graves and the remnants of 17 structures. A report on the SIAS Arnold site excavations was published in 1972 as part of the edited volume The Middle Cumberland Culture, edited by Robert B. Ferguson, Vanderbilt University Publications in Anthropology No. 3, Nashville, TN.

The stone-box graves and structure architecture indicate Arnold is a Mississippian period site. All removed burials and associated burial objects are consistent with previously identified late prehistoric Native American burials and objects dating roughly A.D. 1200-1450. Information regarding the Middle Cumberland Mississippian culture can be found in Kevin Smith's 1992 dissertation The Middle Cumberland Region: Mississippian Archaeology in North Central Tennessee, Vanderbilt University; as well as the 2009 (revised 2012) report Archaeological Expeditions of the Peabody Museum in Middle Tennessee, 1877-1884 by Michael C. Moore and Kevin E. Smith, Tennessee Division of Archaeology Research Series No. 16 (available as a free pdf on the Division of Archaeology website, at https://www.tn.gov/content/dam/tn/environment/archaeology/documents/researchseries/arch_rs16_peabody_museum_2009.pdf).

While over 150 burials were reportedly removed during the 1965-1966 work, the Division of Archaeology holds 19 human individuals from 14 burials. The remainder of the skeletal collection was held by Vanderbilt University. No known individuals were identified. The Division has five associated funerary objects recovered with these individuals. The five associated funerary objects are three ceramic frog-effigy jars and two ceramic effigy hooded bottles.

The Ryan site (40RD77) was established on a floodplain of Stewart Creek in Smyrna, Rutherford County, TN. This site was defined in 1981, by the Tennessee Department of Transportation (TDOT), during planning for an interstate connection, and it was excavated in the spring of 1982, prior to construction. The human remains were transferred to the Tennessee Division of Archaeology (TDOA) for curation upon completion of the work, although the burial objects were held by TDOT. A report was not completed at that time.

In 2000, the Ryan collection was temporarily transferred to TDOT for analysis by Gary Barker and Christopher M. Hazel. Their results were published in a 2007 Journal of Alabama Archaeology (JAA) article (“Ryan (40RD77): A Late Middle Archaic Benton Culture Cemetery in Tennessee's Central Basin”). After completion of the Barker and Hazel analysis, the human remains were returned to the TDOA. The JAA article listed 23 individuals from 20 burial pits, as well as one human cremation (originally designated Feature 4). In 2009 the TDOA requested that Middle Tennessee State University (MTSU) reanalyze the Ryan human remains. This reanalysis identified 20 individuals from the 20 burial pits, along with the one Feature 4 human cremation. No known individuals were identified.

The Division documented 22 associated funerary objects recovered with these individuals. These 23 associated funerary objects are three Benton style darts/knives, one stemmed dart/knife, one unnotched dart/knife, three shell beads, six drilled canine incisors, one bone atlatl hook, two shell pins, two bone pins, one lot of small steatite fragments (likely representing a single unknown object), one turkey awl, one raccoon baculum, and the remains of one dog.

The placement of these individuals in flexed burial positions within circular burial pits, along with distinctive associated funerary objects (including Benton style darts/knives and an atlatl hook), is consistent with previously identified Native American burials and objects dating to the prehistoric Middle Archaic period. Two radiocarbon dates between 4680-4360 B.C. confirm Ryan as a Middle Archaic period site.

Determinations Made by the Tennessee Department of Environment and Conservation, Division of Archaeology

Officials of the Tennessee Department of Environment and Conservation, Division of Archaeology have determined that:

• Pursuant to 25 U.S.C. 3001(9), the human remains described in this notice represent the physical remains of 73 individuals of Native American ancestry.

• Pursuant to 25 U.S.C. 3001(3)(A), the 90 objects described in this notice are reasonably believed to have been placed with or near individual human remains at the time of death or later as part of the death rite or ceremony.

• Pursuant to 25 U.S.C. 3001(2), there is a relationship of shared group identity that can be reasonably traced between the Native American human remains and associated funerary objects and The Chickasaw Nation.

Additional Requestors and Disposition

Lineal descendants or representatives of any Indian Tribe or Native Hawaiian organization not identified in this notice that wish to request transfer of control of these human remains and associated funerary objects should submit a written request with information in support of the request to Michael C. Moore, Tennessee Department of Environment and Conservation, Division of Archaeology, 1216 Foster Avenue, Cole Building 3, Nashville, TN 37243, telephone (615) 687-4776, email mike.c.moore@tn.gov, by July 5, 2019. After that date, if no additional requestors have come forward, transfer of control of the human remains and associated funerary objects to The Chickasaw Nation may proceed.

The Tennessee Department of Environment and Conservation, Division of Archaeology is responsible for notifying The Tribes that this notice has been published.

Dated: May 2, 2019.
Melanie O'Brien,
Manager, National NAGPRA Program.

[FR Doc. 2019-11539 Filed 6-3-19; 8:45 am]

BILLING CODE 4312-52-P